DEPARTMENT OF HOUSING AND URBAN DEVELOPMENT

[Docket No. FR-5681-N-48]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Flavio Peres, General Services Administration, Office of Real Property Utilization and Disposal, 1800 F Street NW., Room 7040 Washington, DC 20405, (202) 501-0084; (This is not a toll-free number).

Dated: December 5, 2013.
Mark Johnston,
Deputy Assistant Secretary for Special Needs.

TITLE V, FEDERAL SURPLUS PROPERTY PROGRAM FEDERAL REGISTER REPORT FOR 12/13/2013

Suitable/Available Properties

Land

California

Delano Transmitting Station

1105 Melcher Rd.

Delano CA 93215

Landholding Agency: GSA

Property Number: 54201330005

Status: Excess

GSA Number: 9-X-CA-1671

Directions: Landholding Agency: Broadcasting Board of Governors Disposal Agency: GSA

Comments: 800 acres; mostly land and some bldgs.; unavailable due to Federal interest; transmitting station; vacant since 2007; access can be gain by appt. only; contact GSA for more info.

Suitable/Unavailable Properties

Building

Alabama

Anniston SSA Building

301 E. 13th St.

Anniston AL 36207

Landholding Agency: GSA

Property Number: 54201330002

Status: Excess

GSA Number: 4-G-AL-0790AA

Comments: 12,257 sf.; 11,927 rentable sf.; 59 parking spaces; office; 9+ months vacant; good conditions; contact GSA for more info.

Hawaii

Bldg. 133 & Antenna Tower 133A

Kamehaine Dr., Waimanalo Ridge

Hawaii Kai HI 96825

Landholding Agency: GSA

Property Number: 54201320012

Status: Surplus

GSA Number: 9-N-HI-811

Directions: Disposal agency: GSA; Landholding agency: Navy

Comments: off-site removal only; 735 sf. for bldg. 133; poor conditions; contamination present; located w/in secured area; contact GSA for more info.

Maine

Columbia falls Radar Site

Tibbetstown Road

Columbia Falls ME 04623

Landholding Agency: GSA

Property Number: 54201140001

Status: Excess

GSA Number: 1-D-ME-0687

Directions: Buildings 1, 2, 3, and 4

Comments: Four bldgs. totaling 20,375 sq. ft.; each one-story; current use: varies among properties.

Maryland

Appraisers Store

Baltimore MD 21202

Landholding Agency: GSA

Property Number: 54201030016

Status: Excess

GSA Number: 4-G-MD-0623

Comments: Redetermination: 169,801 sq. ft., most recent use—federal offices, listed in the Nat'l Register of Historic Places, use restrictions

Consumer Products Safety Commi

10901 Darenestown Rd.

Gaithersburg MD 20878

Landholding Agency: GSA

Property Number: 54201220004

Status: Surplus

GSA Number: NCR-G-MR-1107-01

Directions: property includes building and land

Comments: 37,543 sf.; office/warehouse space; secured area; however, will not interfere w/conveyance; contact GSA for further details.

Michigan

Nat'l Weather Svc Ofc

214 West 14th Ave.

Sault Ste. Marie MI

Landholding Agency: GSA

Property Number: 54200120010

Status: Excess

GSA Number: 1-C-MI-802

Comments: 2230 sq. ft., presence of asbestos, most recent use—office.

Minnesota

Noyes Land Port of Entry

SW Side of US Rte. 75

Noyes MN 56740

Landholding Agency: GSA

Property Number: 54201230007

Status: Excess

GSA Number: 1-G-MN-0593

Directions: one main bldg.; one storage; approx. 16,000 and 900 sf. respectively

Comments: sits on 2.29 acres; approx. 17,000 sf. total of bldg. space; office/governmental.

Montana

James F. Battin & Courthouse

316 North 26th Street

Billings MT 59101

Landholding Agency: GSA

Property Number: 54201210005

Status: Excess

GSA Number: 7-G-MT-0621-AB

Comments: 116,865 sf.; current use: office; extensive asbestos contamination; needs remediation

Nebraska

Former Omaha Qtrs. Depot

2101 Woolworth Ave.

Omaha NE 68108

Landholding Agency: GSA

Property Number: 54201310005

Status: Surplus

GSA Number: 7-D-NE-0530

Directions: office #1: 14,520 sf.; office #2: 38,870 sf.; office #3: 11,000 sf.; office #4: 986 sf.; storage: 7,488 sf.; office #5: 12,250 sf.; office #6: 3,720 sf.; Two Gatehouses: 507 sf. each

Comments: 9 Bldgs. sits on 7.25 acres; Admin/Office; 12 mons. vacant; to access coordinate w/88th Army Reserve Command out of Ft. McCoy, WI

Nevada

Alan Bible Federal Bldg.

600 S. Las Vegas Blvd.

Las Vegas NV 89101

Landholding Agency: GSA

Property Number: 54201210009

Status: Excess

GSA Number: 9-G-NV-565

Comments: 81,247 sf.; current use: federal bldg.; extensive structural issues; needs major repairs; contact GSA for further details

2 Buildings

Military Circle

Tonopah NV

Landholding Agency: GSA

Property Number: 54201240012

Status: Surplus

GSA Number: 9-I-NV-514-AK

Directions: bldg. 102: 2,508 sf.; bldg. 103: 2,880 sf.

Comments: total sf. for both bldgs. 5,388; Admin.; vacant since 1998; sits on 0.747 acres; fair conditions; lead/asbestos present

New Jersey

Former SSA Trust Fund Bldg.

396 Bloomfield Ave.

Montclair NJ 07042

Landholding Agency: GSA

Property Number: 54201310004

Status: Surplus

GSA Number: 1-G-NJ-0676

Comments: 7,183 sf.; office; vacant since March 2012

Portion of Former Sievers-Sandberg U.S. Army Reserves Center—Tract 1

NW Side of Artillery Ave. at Rte. 130

Oldmans NJ 08067

Landholding Agency: GSA

Property Number: 54201320015

Status: Surplus

GSA Number: 1-D-NJ-0662-AA

Directions: Previously reported under 54200740005 as suitable/available ; 16 bldgs. usage varies: barracks/med./warehouses/garages; property is being parcelized.

Comments: 87,011 sf.; 10+ yrs. vacant fair/poor conditions; property may be landlocked; transferee may need to request access from Oldmans Township planning & zoning comm.; contact GSA for more info.

New York

Building 606

1 Amsterdam Rd.

Scotia NY 12301

Landholding Agency: GSA

Property Number: 54201310009

Status: Surplus

GSA Number: NY-0975

Directions: previously reported by Navy w/assigned property number 7720120019

Comments: 137,409 sf.; Navy Exchange, supermarket, & storage; 24 mons. vacant; mold, asbestos, & lead-based paint, significant renovations needed.

Building 240

Hill Rd, AFRL Rome Research Site

Rom NY 13441

Landholding Agency: GSA

Property Number: 54201320007

Status: Excess

GSA Number: ny0938

Comments: 134,855sf; military office & lab bldg.; 10 plus years vacant; significant deterioration; asbestos; access must be coordinated w/local Air Force personnel.

Portion of GSA Binghamton

“Hillcrest” Depot—Tract 2

1151 Hoyt Avenue

Fenton NY 13901

Landholding Agency: GSA

Property Number: 54201320008

Status: Surplus

GSA Number: 1-G-NY0670-AD

Directions: Previously report on March 24, 2006 under 5420010016; include 40 acres of land w/5 buildings.

Comments: warehouses: ranges 129,000-200,249 total; old admin. bldg.: 42,890; pump house: 166.5; fair to very poor conditions; contact GSA for more info.

Portion of GSA Binghamton

“Hillcrest” Depot—Tract 1

1151 Hoyt Ave.

Fenton NY 13901

Landholding Agency: GSA

Property Number: 54201320017

Status: Surplus

GSA Number: 1-G-NY0670-AC

Directions: Previously reported on March 24, 2006 under 54200610016; this property includes 40 acres of land w/6 structures; property is being parcelized

Comments: warehouses range from approx. 16,347 sf.-172,830 sf.; admin. bldg. approx. 5,700; guard house & butler bldg. sf. is unknown; 10 vacant; fair conditions; bldgs. locked; entry by appt. w/GSA

North Carolina

Greenville Site

10000 Cherry Run Rd.

Greenville NC 27834

Landholding Agency: GSA

Property Number: 54201210002

Status: Surplus

GSA Number: 4-2-NC-0753

Comments: 49,300 sq. ft.; current use: transmitter bldg.; possible PCB contamination; not available—existing Federal need

Ohio

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab

LTC Dwite Schaffner

U.S. Army Reserve Center

1011 Gorge Blvd.

Akron OH 44310

Landholding Agency: GSA

Property Number: 54201120006

Status: Excess

GSA Number: 1-D-OH-836

Comments: 25,039 sq. ft., most recent use: Office; in good condition

Oregon

3 Bldgs./Land

OTHR-B Radar

Cty Rd 514

Christmas Valley OR 97641

Landholding Agency: GSA

Property Number: 54200840003

Status: Excess

GSA Number: 9-D-OR-0768

Comments: 14000 sq. ft. each/2626 acres, most recent use—radar site, right-of-way

Pennsylvania

Old Marienville Compound

110 South Forest St.

Marienville PA 16239

Landholding Agency: GSA

Property Number: 54201230001

Status: Excess

GSA Number: 4-A-PA-808AD

Directions: 10 bldgs.; wood farm duplex; office/garage; pole bard; shop; (2) wood sheds; block shed; trailer; carport; toilet bldg.

Comments: sq. ft. for ea. bldg. on property varies; contact GSA for specific sq. ft.; Forest Service Admin. complex; mold and lead identified; historic property

South Carolina

Former U.S. Vegetable Lab

2875 Savannah Hwy

Charleston SC 29414

Landholding Agency: GSA

Property Number: 54201310001

Status: Excess

GSA Number: 4-A-SC-0609AA

Directions: headhouse w/3 greenhouses, storage bins

Comments: 6,400 sf.; lab; 11 yrs. vacant; w/in 100 yr. floodplain/floodway; however is contained; asbestos & lead based paint

Texas

Former Navy & Marine Corps Res

5301 Ave. South

Galveston TX 77551

Landholding Agency: GSA

Property Number: 54201240013

Status: Surplus

GSA Number: 7-D-TX-0549-9

Comments: 17,319 sf.; sits on 2.63 acres; Admin. office; fair conditions; eligible for Nat'l Register Historic Places; asbestos; access by appt. w/USACE

Dallas Social Security

Admin. Bldg.

Dallas TX 75201

Landholding Agency: GSA

Property Number: 54201330008

Status: Excess

GSA Number: 7-G-TX-1149

Comments: 11,282 sf.; office; 1+ month vacant; roof need repairs; property on 1.1 acres

Washington

Recreational cabin; Lot 92

435 S. Shore Rd.

Quinault WA 98575

Landholding Agency: GSA

Property Number: 54201320018

Status: Excess

GSA Number: 9-A-WA-1267

Directions: Disposal Agency: GSA; Landholding Agency: Interior (U.S. Forest Service)

Comments: 524 sf.; 48 months vacant; extensive cleaning & repairs; used only for recreational purposes; transferee must obtain a 20 yr. license to use property; contact GSA for more info.

712 Records Center Printing &

Repro Plant 712B IRM

940 Northgate Dr.

Richland WA 99352

Landholding Agency: GSA

Property Number: 54201320025

Status: Excess

GSA Number: 9-B-WA-1268

Directions: Property is improved w/2 contiguous bldgs., totaling approx. 22, 714 sf.; Disposal: GSA, Landholding: Energy

Comments: 22,714 sf.; storage; moderate conditions; 60+ months vacant; asbestos & lead

Wisconsin

Wausau Army Reserve Ctr.

1300 Sherman St.

Wausau WI 54401

Landholding Agency: GSA

Property Number: 54201210004

Status: Excess

GSA Number: 1-D-WI-610

Comments: bldg. 12,680 sq. ft.; garage 2,676 sq. ft.; current use: vacant; possible asbestos; remediation may be required; subjected to existing easements; Contact GSA for more detail

Suitable/Unavailable Properties

Land

California

Seal Beach RR Right of Way

East 17th Street

Seal Beach CA 90740

Landholding Agency: GSA

Property Number: 54201140016

Status: Surplus

GSA Number: 9-N-CA-1508-AB

Comments: 9,713.88 sq. ft.; current use: private home

Seal Beach RR Right of Way

East of 16th Street

Seal Beach CA 90740

Landholding Agency: GSA

Property Number: 54201140017

Status: Surplus

GSA Number: 9-N-CA-1508-AG

Comments: 6,834.56 sq. ft.; current use: vacant

Seal Beach RR Right of Way

West of Seal Beach Blvd.

Seal Beach CA 90740

Landholding Agency: GSA

Property Number: 54201140018

Status: Surplus

GSA Number: 9-N-CA-1508-AA

Comments: 10,493.60 sq. ft.; current use: vacant lot

Seal Beach RR Right of Way

Seal Beach

Seal Beach CA 90740

Landholding Agency: GSA

Property Number: 54201210006

Status: Surplus

GSA Number: 9-N-CA-1508-AH

Comments: 4,721.90 sf.; current use: vacant lot between residential bldg.

Seal Beach RR Right of Way

Seal Beach

Seal Beach CA 90740

Landholding Agency: GSA

Property Number: 54201210007

Status: Surplus

GSA Number: 9-N-CA-1508-AJ

Comments: 6,028.70 sq. ft.; current ft.; current lot between residential bldgs.

Florida

RCLT Transmitter Site

7439 SW 39th St.

Davie FL

Landholding Agency: GSA

Property Number: 54201320009

Status: Surplus

GSA Number: 4-U-FL-1258AA

Directions: Note: landholding agency is FAA; disposal agency is GSA

Comments: 1.75 acres; equipment storage; contact GSA for more information

Georgia

Former GNK Outer Marker

Hunt Rd.

LaGrange GA 31909

Landholding Agency: GSA

Property Number: 54201310008

Status: Excess

GSA Number: 4-U-GU-88AA

Comments: 0.918 acres

Illinois

Three Contiguous Vacant Lots

5139 S. Mason Ave.

Chicago IL

Landholding Agency: GSA

Property Number: 54201320021

Status: Surplus

GSA Number: 1-U-IL-803

Directions: Disposal Agency: GSA; Landholding Agency: FAA

Comments: 0.65 acres; lots located w/in locked fence; contact GSA for more info.

Kansas

1.64 Acres

Wichita Automated Flight Service

Anthony KS 67003

Landholding Agency: GSA

Property Number: 54201230002

Status: Excess

GSA Number: 7-U-KS-0526

Comments: Agricultural surroundings; remedial action has been taken for asbestos removal

Kentucky

Little Hurricane Island Access

Tract No. 819 & 816E, Newburgh

Locks & Dams

Owensboro KY 42301

Landholding Agency: GSA

Property Number: 54201320024

Status: Excess

GSA Number: 4-D-KY-0629

Directions: Disposal: GSA; Landholding: COE

Comments: 20.87 acres; boat ramp

Massachusetts

FAA Site

Massasoit Bridge Rd.

Nantucket MA 02554

Landholding Agency: GSA

Property Number: 54200830026

Status: Surplus

GSA Number: MA-0895

Comments: approx. 92 acres, entire parcel within MA Division of Fisheries & Wildlife Natural Heritage & Endangered Species Program

Mississippi

Harrison County Farm

John Clark Rd.

Gulfport MS 39503

Landholding Agency: GSA

Property Number: 54201320022

Status: Excess

GSA Number: 4-A-MS-0572

Directions: Disposal Agency: GSA; Landholding Agency: Agriculture

Comments: 14.14 acres; fire ant. investigations/grazing; contact GSA for more info.

Nevada

RBG Water Project Site

Bureau of Reclamation

Henderson NV 89011

Landholding Agency: GSA

Property Number: 54201140004

Status: Surplus

GSA Number: 9-I-AZ-0562

Comments: water easement (will not impact conveyance); 22±acres; current use: water sludge disposal site; lead from shotgun shells on <1 acre.

New York

FAA Radio Communication Link

Adjacent to Babcock Road

Coleville NY 13787

Landholding Agency: GSA

Property Number: 54201330001

Status: Excess

GSA Number: 1-NY-0977-AA

Comments: 6.03 acres; contact GSA for more info.

South Dakota

Gettysburg Radio Tower Site

Potter County

Gettysburg SD 57442

Landholding Agency: GSA

Property Number: 54201310007

Status: Surplus

GSA Number: 7-D-SD-0537

Directions: one antenna tower & 144 sf. bldg. located on property

Comments: 2.21 acres; 144 sf. bldg. is used for storage

Texas

Fort Worth Federal Center

501 W. Felix

Ft. Worth TX 76115

Landholding Agency: GSA

Property Number: 54201320023

Status: Surplus

GSA Number: 7-G-TX-0767-6

Comments: 0.38 acres; perpetual use easement over 100% of property; secured area; approval to access granted by City of Ft. Worth

Washington

1.8 Ac. of the Richland FB N.

Parking Lot

825 Jadwin Ave.

Richland WA 99723

Landholding Agency: GSA

Property Number: 54201310002

Status: Excess

GSA Number: 9-G-WA-1263

Comments: 1.8; parking lot

[FR Doc. 2013-29447 Filed 12-12-13; 8:45 am]

BILLING CODE 4210-67-P